DEPARTMENT OF TRANSPORTATION

Federal Aviation Administration

Public Notice for Waiver of Aeronautical Land-Use Assurance

AGENCY: Federal Aviation Administration (FAA), DOT.

ACTION: Notice of intent of waiver with respect to land; Indianapolis International Airport, Indianapolis, Indiana.

SUMMARY: The FAA is considering a proposal to change 22.212 acres of airport land from the federal obligation dedicating it to aeronautical use and to authorize this land to be used for revenue producing, non-aeronautical purposes at Indianapolis International Airport, Indianapolis, Indiana. The aforementioned land is not needed for current or future aeronautical use.

The land is north of the Indianapolis Maintenance Center, west of the Indianapolis Maintenance Center's central energy plant, and industrial waste water treatment facility located just south of U.S. Route 40 and west of Brushwood Road. The land is not currently developed. A solar power generating facility is proposed for development on the land.

DATES: Comments must be received on or before March 23, 2015.

ADDRESSES: Documents are available for review by appointment at the FAA Chicago Airports District Office, Melanie Myers, Program Manager, 2300 East Devon Avenue, Des Plaines, IL 60018 Telephone: (847) 294-7525/Fax: (847) 294-7046 and Eric Anderson, Indianapolis Airport Authority, 7800 Col. H. Weir Cook Memorial Drive, Indianapolis, IN 46241; (317) 487-5135.

Written comments on the Sponsor's request must be delivered or mailed to: Melanie Myers, Program Manager, Federal Aviation Administration, Chicago Airports District Office, 2300 East Devon Avenue, Des Plaines, IL 60018, Telephone Number: (847) 294-7525/FAX Number: (847) 294-7046.

FOR FURTHER INFORMATION CONTACT: Melanie Myers, Program Manager, Federal Aviation Administration, Chicago Airports District Office, 2300 East Devon Avenue, Des Plaines, IL 60018, Telephone Number: (847) 294-7525/FAX Number: (847) 294-7046.

SUPPLEMENTARY INFORMATION: In accordance with section 47107(h) of Title 49, United States Code, this notice is required to be published in the Federal Register 30 days before modifying the land-use assurance that requires the property to be used for an aeronautical purpose.

The vacant property consists of portions of 4 original airport acquired parcels. These parcels were acquired with local funds. The land is located outside the airport operations area. There are no impacts to the airport by allowing the Indianapolis Airport Authority to lease the property for solar energy generation.

The Indianapolis Airport Authority will control use of the parcel through terms and conditions of the ground lease. The lease will be subordinate to the sponsor's existing grant assurances. This will ensure that all activities on the parcel will be compatible with FAA requirements and airport operations. The disposition of proceeds from the lease of the airport property will be in accordance with FAA's Policy and Procedures Concerning the Use of Airport Revenue, published in the Federal Register on February 16, 1999 (64 FR 7696).

A fair market value (FMV) appraisal for the parcel was completed in September 2014 in accordance with FAA Order 5100.37A. The appraisal concluded that the FMV for an annual commercial ground lease of the property is $5,342.98 per acre.

This notice announces that the FAA is considering the release of the subject airport property at the Indianapolis International Airport, Indianapolis, Indiana from its obligations to be maintained for aeronautical purposes. Approval does not constitute a commitment by the FAA to financially assist in the change in use of the subject airport property nor a determination of eligibility for grant-in-aid funding from the FAA.

Legal Description

A part of the Southeast Quarter and the Southwest Quarter of Section 21, Township 15 North, Range 2 East, Wayne Township, Marion County, Indiana, more particularly described as follows:

Commencing at brass disk (IAA monument 22-O) found at the Northeast corner of the Southeast Quarter of said Section 21; thence South 88 degrees 25 minutes 07 seconds West (all bearings are based on the Indiana State Plane Coordinate System), East Zone (NAD 83)) along the North line of said Southeast Quarter 2288.09 feet; thence South 01 degrees 34 minutes 53 seconds East perpendicular to the last described line 132.00 feet to a chain link fence and the POINT OF BEGINNING (the following four courses are along said chain link fence); (1) Thence South 45 degrees 01 minutes 35 seconds East 1095.49 feet; (2) thence South 44 degrees 54 minutes 51 seconds West 286.62 feet; (3) thence South 44 degrees 32 minutes 57 seconds East 19.33 feet; (4) thence south 44 degrees 55 minutes 22 seconds West 616.14 feet; thence North 50 degrees 12 minutes 17 seconds West 498.46 feet; thence North 39 degrees 47 minutes 43 seconds East 146.78 feet; thence North 50 degrees 12 minutes 17 seconds West 608.47 feet; thence North 44 degrees 58 minutes 25 seconds East 856.65 feet to the POINT OF BEGINNING, containing 22.212 acres, more or less.

Issued in Des Plaines, Illinois, on February 10, 2015.
Deb Bartell,
Acting Manager, Chicago Airports District Office, FAA, Great Lakes Region.

[FR Doc. 2015-03485 Filed 2-18-15; 8:45 am]

BILLING CODE 4910-13-P